DEPARTMENT OF HEALTH AND HUMAN SERVICES

Office of the Secretary

[Document Identifier: OS-0937-0200; 60-day notice]

Agency Information Collection Activities: Proposed Collection; Comment Request

AGENCY: Office of the Secretary, HHS.

In compliance with the requirement of section 3506(c)(2)(A) of the Paperwork Reduction Act of 1995, the Office of the Secretary (OS), Department of Health and Human Services, is publishing the following summary of a proposed collection for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Type of Information Collection Request: Extension of a currently approved collection.

Title of Information Collection: HHS Payment Management System Forms.

Form/OMB No.: 0937-0200.

Use: The PSC-270 (formerly PMS 270) is used to make advance or reimbursement payments to grantees. It serves in place of the SF-270. The PSC-272 (formerly PMS-272) is used to monitor cash advances made to grantees and to collect disbursement data. It serves in place of the SF-272.

Frequency: On Occasion and quarterly.

Affected Public: State, Local or Tribal Governments, Business or other for profit and non-profit institutions.

Annual Number of Respondents: 22,240.

Average Responses per Respondents: 4.11.

Average Burden per Response: 2.93 hours.

Total Annual Hours: 267,510.

To obtain copies of the supporting statement and any related forms for the proposed paperwork collections referenced above, e-mail your request, including your address, phone number, OMB number, and OS document identifier, to Sherette.funncoleman@hhs.gov, or call the Reports Clearance Office on (202) 690-6162. Written comments and recommendations for the proposed information collections must be received with 60-days, and directed to the OS Paperwork Clearance Officer at the following address:

Department of Health and Human Services, Office of the Secretary, Assistant Secretary for Resources and Technology, Office of Resources Management, Attention: Sherrette Funn-Coleman (0937-0200), Room 537-H, 200 Independence Avenue, SW., Washington, DC 20201.

Dated: June 22, 2007.
Mary Oliver-Anderson,
Office of the Secretary, Paperwork Reduction Act Reports Clearance Officer.

[FR Doc. E7-12619 Filed 6-28-07; 8:45 am]

BILLING CODE 4150-34-P